DEPARTMENT OF TRANSPORTATION

Federal Transit Administration

[FTA-2021-0010]

Notice of Availability of Final Policy Guidance for the Capital Investment Grants Program

AGENCY: Federal Transit Administration (FTA), Department of Transportation (DOT).

ACTION: Notice of availability of final policy guidance for the Capital Investment Grants program.

SUMMARY: The Federal Transit Administration (FTA) is making available the agency's final policy guidance for the Capital Investment Grants (CIG) program. This version amends FTA's Initial CIG Policy Guidance published in January 2023, and incorporates feedback FTA received from the public comment on its proposed Policy Guidance published in the Federal Register in April 2024. The final guidance has been placed in the docket and posted on the FTA website. The policy guidance complements FTA's regulations that govern the CIG program.

DATES: This final policy guidance is effective January 16, 2025. Companion documents to the CIG Policy Guidance such as reporting instructions, CIG reporting templates, and standard cost category worksheets will be updated on the FTA website prior to the effective date.

FOR FURTHER INFORMATION CONTACT: Elizabeth Day, FTA Office of Planning and Environment, telephone (202) 366-5159 or Elizabeth.Day@dot.gov.

SUPPLEMENTARY INFORMATION: This final policy guidance document contains binding obligations, which 49 U.S.C. 5334(k) defines as “a substantive policy statement, rule, or guidance document issued by the Federal Transit Administration that grants rights, imposes obligations, produces significant effects on private interests, or effects a significant change in existing policy.” Under 49 U.S.C. 5334(k), FTA may issue binding obligations if it follows notice and comment rulemaking procedures under 5 U.S.C. 553. Prior to making the amendments announced today, FTA followed such procedures. The policy guidance that FTA periodically issues for the CIG program complements the FTA regulations that govern the CIG program, codified at 49 CFR part 611. The regulations set forth the process that grant applicants must follow to be considered for discretionary funding under the CIG program, and the procedures and criteria FTA uses to rate and evaluate projects to determine their eligibility for discretionary CIG program funding. The policy guidance provides a greater level of detail about the methods FTA uses and the sequential steps a sponsor must follow in developing a project.

Pursuant to 49 U.S.C. 5309(g)(5), FTA is required to publish policy guidance on the CIG program each time the agency makes significant changes to the review and evaluation process and criteria, but not less frequently than once every two years. In April 2024, FTA published a notice in the Federal Register (89 FR 24086), seeking comment on proposed changes to FTA's Initial CIG Policy Guidance issued in January 2023 (88 FR 2166), which were informed by feedback FTA received in response to its Request for Information published in the Federal Register in July 2021 (86 FR 37402). The amended Final CIG program policy guidance is being made available today on the agency's public website at https://www.transit.dot.gov/funding/grant-programs/capital-investments/capital-investment-grants-program-regulations-guidance, and in the docket at https://www.regulations.gov/docket/FTA-2021-0010/. Additionally, FTA's response to the comments received on the proposed changes are available in the docket.

FTA is exempting certain projects from following the new amended Final CIG Policy Guidance. Specifically, projects already in the Project Development or Engineering phases of the CIG program as of the date of publication of this notice that have been evaluated and rated at least once by FTA under the January 2023 CIG Policy Guidance and that meet the requirements for receipt of a CIG construction grant award by the end of calendar year 2025 are exempt from following the new amended Final CIG Policy Guidance. These projects may continue to follow the January 2023 Initial CIG Policy Guidance. To demonstrate a project has met the requirements for receipt of a construction grant award by the end of calendar year 2025, the project sponsor must submit a complete construction grant application to FTA no later than September 1, 2025. If a project sponsor desires to have an exempt project evaluated and rated under the new amended Final CIG Policy Guidance rather than the prior January 2023 Initial CIG Policy Guidance, the sponsor may notify FTA of this desire.

Veronica Vanterpool,
Deputy Administrator.

[FR Doc. 2024-29616 Filed 12-16-24; 8:45 am]

BILLING CODE 4910-57-P